ENVIRONMENTAL PROTECTION AGENCY

[ER-FRL-6677-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060093, ERP No. D-AFS-K61164-CA, Commercial Pack Station and Pack Stock Outfitter/Guide Permit Issuance, Implementation, Special-Use-Permit to Twelve Pack Station and Two Outfitter/Guides, Inyo National Forest, CA.

Summary: EPA expressed environmental concerns about adverse impacts to water quality from specific campsites, grazing, and trail use, and recommended implementation of protective measures described in Alternative 3 and the inclusion of a detailed monitoring and enforcement plan in the final EIS. Rating EC2.

EIS No. 20060105, ERP No. D-COE-D01003-WV, Spruce No. 1 Mine, Construction and Operation, Mining for 2.73 Million Ton of Bituminous Coal, NPDES Permit and U.S. Army COE Section 404 Permit, Logan County, WV.

Summary: EPA expressed concerns about cumulative impacts from mountaintop mining activities in the Little Coal Watershed, and recommended that the U.S. Army Corps of Engineers, Federal and State agencies, the applicant, public and other stakeholders agree to develop a Little Coal Watershed cumulative impact assessment and restoration plan. Rating EC2.

EIS No. 20060122, ERP No. D-BIA-L60108-WA, Cowlitz Indian Tribe Trust Acquisition and Casino Project, Take 151.87 Acres into Federal Trust and Issuing of Reservation Proclamation, and Approving the Gaming Development and Management Contract, Clack County, WA.

Summary: EPA expressed environmental objections because project impacts have the potential to exceed water and air quality standards and requested additional information that demonstrates that water and air quality standards will be met and that wetland impacts will be adequately mitigated. Rating EO2.

EIS No. 20060136, ERP No. D-AFS-L65508-AK, Kenai Winter Access Project, Develop a Winter Access Management Plan for 2006/2007 Winter Season, Implementation, Seward Ranger District, Chugach National Forest, Located on the Kenai Peninsula in South-central, AK.

Summary: EPA does not object to the proposed project. Rating LO.

EIS No. 20060167, ERP No. D-FHW-F40435-IL, Illinois Route 29 (FAP 318) Corridor Study, Transportation Improvement from Illinois 6 to Interstate 180, Funding and U.S. Army COE Section 404 Permit, Peoria, Marshall, Putnam and Bureau Counties, IL.

Summary: EPA expressed environmental concerns about potential impacts to wetlands and 142 acres of woodland habitat. Rating EC2.

EIS No. 20060171, ERP No. D-COE-E36185-KY, Levisa Fork Basin Project, Section 202 Flood Damage Reduction, Big Sandy River, Floyd County, KY.

Summary: EPA does not object to the proposed action. Rating LO.

EIS No. 20060182, ERP No. D-COE-K39098-CA, San Clemente Dam Seismic Safety Project, Increase Dam Safety to Meet Current Design Standards, Monterey County, CA.

Summary: EPA expressed environmental concerns about impacts to the steelhead population, and requested additional information regarding the long-term benefits to the River from removal of the dam. Rating EC2.

EIS No. 20060188, ERP No. D-NOA-K90031-CA, Channel Islands National Marine Sanctuary Management Plan Review, Implementation, Santa Barbara and Ventura Counties, CA.

Summary: EPA does not object to the proposed action. Rating LO.

EIS No. 20060222, ERP No. D-COE-H36111-00, Kansas Citys, Missouri and Kansas Flood Damage Reduction Study, Improvements to the Existing Line of Protection, Birmingham, Jackson, Clay Counties, MO and Wyandotte County, KS.

Summary: EPA does not object to the proposed action. Rating LO.

EIS No. 20060223, ERP No. D-FRC-G03031-00, Carthage to Perryville Project, Construction and Operation of a Natural Gas Pipeline Facilities, Center Point Energy Gas Transmission, Located in various counties and parishes in eastern Texas and northern Louisiana.

Summary: EPA does not object to the preferred alternative. Rating LO.

EIS No. 20060227, ERP No. D-COE-G39047-00, White River Minimum Flood Study, Manages the Water and Land Areas at Five Reservoirs: Beaver, Table Rock, Bull Shoals, Norfork and Greers Ferry, Little Rock District, AR and MO.

Summary: EPA does not object to the preferred alternative. Rating LO.

EIS No. 20060041, ERP No. DS-COE-E34031-FL, South Florida Water Management District, (SFWMD), Proposes Construction and Operation Everglades Agricultural Area Reservoir A-1 Project, Lake Okeechobee, Palm Beach County, FL.

Summary: EPA's previous issues have been resolved; therefore, EPA does not object to the proposed action. Rating LO.

Final EISs

EIS No. 20060118, ERP No. F-AFS-L65384-OR, Drew Creek Diamond Rock and Divide Cattle Allotments, Alternative 2 Preferred Alternative, Issuance of Term Grazing Permits on Livestock Allotments on Tiller Ranger District, Implementation, Umpqua National Forest, Douglas and Jackson Counties, OR.

Summary: The Final EIS included data on the cattle management plans and addressed EPA's concerns about water quality; therefore, EPA does not object to the proposed project.

EIS No. 20060121, ERP No. F-CGD-E03013-00, Compass Port and Deepwater Port License Application, To Construct a Liquefied Natural Gas (LNG) Receiving, Storage and Regasification Facility, Proposed Offshore Pipeline and Fabrication Site, NPDES Permit, U.S. Army COE Section 10 and 404 Permits, Mobile County, AL and San Patricio and Nueces County, TX.

Summary: EPA's previous concerns regarding water quality and marine ecosystem impacts will be addressed thru pollutant minimization and prevention measures.

EIS No. 20060144, ERP No. F-FHW-F40421-IN, US-31 Improvement from Plymouth to South Bend, Running from Southern Terminus at US-30 to Northern Terminus at US-20, Marshall and St. Joseph Counties, IN.

Summary: EPA expressed environmental concerns about impacts to upland forest habitat as well as water quality, and recommended additional voluntary upland forest mitigation and BMPs/mitigation measures that enhance water quality and stream integrity.

EIS No. 20060148, ERP No. F-NRC-E05101-NC, Generic—Brunswick Stream Electric Plant, Units 1 and 2 (TAC Nos. MC4641 and MC4642) License Renewal of Nuclear Plants, Supplement 25 to NUREG-1437, Brunswick County, NC.

Summary: EPA continues to have concerns about emergency preparedness.

EIS No. 20060168, ERP No. F-FRC-D03005-00, Cove Point Expansion Project, Construction and Operation of a Liquefied Natural Gas (LNG) Import Terminal Expansion and Natural Gas Pipeline Facilities, US. Army COE Section 404 Permit Docket Nos. CPO5-130-000, CP05-131-000 and CP05-132-00, PA, VA, WV, NY and MD.

Summary: EPA continues to express environmental concerns about wetland impacts/mitigation and NOX conformity.

EIS No. 20060183, ERP No. F-FAA-J51012-UT, St. George Municipal Airport Replacement, Funding, City of St. George, Washington County, UT.

Summary: EPA continues to have environmental concerns about cumulative impacts.

EIS No. 20060198, ERP No. F-AFS-J65392-MT, Helena National Forest Noxious Weed Treatment Project, Implementation, Lewis and Clark, Broadwater, Powell, Jefferson and Meagher Counties, MT.

Summary: The Final EIS addressed EPA concerns with the integrated weed management program to control invasion of noxious weeds and protecting water quality; therefore, EPA does not object to the proposed project.

EIS No. 20060214, ERP No. F-NRC-C06015-NY, Generic—License Renewal of Nuclear Plants for Nine Mile Point Nuclear Station, Units 1 and 2, Supplement 24 to NUREG 1437, Implementation, Lake Ontario, Oswego County, NY.

Summary: EPA continues to have environmental concerns about aquatic life impacts, pollution prevention, and waste minimization.

EIS No. 20060215, ERP No. F-AFS-L65501-AK, Whistle Stop Project, Provide Access to Backcountry Recreation Area on National Forest, System (NFS) Lands, on the Kenai Peninsula between Portage and Moose Pass, Chugach National Forest, Kenai Peninsula Borough, AK.

Summary: No formal comment letter was sent to the preparing agency.

EIS No. 20060216, ERP No. F-IBR-H39011-00, Programmatic—Platte River Recovery Implementation Program, Assessing Alternatives for the Implementation of a Basinwide, Cooperative, Endangered Species Recovery Program, Four Target Species: Whooping Crane, Interior Least Tern, Pipping Plover and Pallid Sturgeon, NE, WY, and CO.

Summary: EPA's previous issues have been resolved; therefore, EPA does not object to the proposed action.

EIS No. 20060219, ERP No. F-COE-D35061-VA, Craney Island Eastward Expansion, Construction of a 580-acre Eastward Expansion of the Existing Dredged Material Management Area, Port of Hampton Roads, Norfolk Harbor and Channels, VA.

Summary: EPA continues to have environmental concerns about wetland and oyster reef impacts and the success of the mitigation in compensating for those impacts.

EIS No. 20060234, ERP No. F-AFS-F65051-IL, Shawnee National Forest Proposed Land and Resource Management Plan Revision, Implementation, Alexander, Gallatin, Hardin, Jackson, Johnson, Massac, Pope, Union and Williamson Counties, IL.

Summary: EPA does not object to the preferred alternative.

EIS No. 20060217, ERP No. FA-COE-F36163-00, Upper Des Plaines River, Proposed Flood Damage Reduction (Site 37 on Upper Des Plaines River), Prospect Heights, Cook County, IL.

Summary: EPA does not object to the proposed project.

Dated: July 25, 2006.
Robert W. Hargrove,
Director, NEPA Compliance Division, Office of Federal Activities.

[FR Doc. E6-12140 Filed 7-27-06; 8:45 am]

BILLING CODE 6560-50-P